NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: February 1, 2018 from 1:00 to 2:00 p.m. EST.

PLACE: This meeting will be held by teleconference at the National Science Foundation, 2415 Eisenhower Ave., Alexandria, VA 22314.

STATUS: Closed

MATTERS TO BE CONSIDERED: (1) NSB Chair's opening remarks; (2) Discussion of the National Science Foundation's FY 2019 budget.

CONTACT PERSON FOR MORE INFORMATION: Point of contact for this meeting is: Brad Gutierrez, 2415 Eisenhower Ave., Alexandria, VA 22314, bgutierr@nsf.gov, (703) 292-7000. Meeting information and updates may be found at http://www.nsf.gov/nsb/meetings/notices.jsp#sunshine. Please refer to the National Science Board website www.nsf.gov/nsb for general information.

Chris Blair,
Executive Assistant to the NSB Office.

[FR Doc. 2018-01739 Filed 1-25-18; 4:15 pm]

BILLING CODE 7555-01-P